DEPARTMENT OF TRANSPORTATION

Surface Transportation Board

[STB Finance Docket No. 34609]

State of Washington, Department of Transportation—Acquisition Exemption—Palouse River and Coulee City Railroad, Inc.

The State of Washington, Department of Transportation (WSDOT), a noncarrier, has filed a verified notice of exemption under 49 CFR 1150.31 to acquire from Palouse River and Coulee City Railroad, Inc. (PRCC) certain physical assets of seven rail lines and the underlying rights-of-way, totaling approximately 188 miles in the State of Washington. The rail lines are as follows: (1) The Hooper Jct.-Winona line, between milepost 26.6 at Hooper Junction and milepost 52.3 at Winona; (2) the Thornton-Winona line, between milepost 0.0 at Winona and milepost 31.7 at Thornton; (3) the Winona-Endicott line, between milepost 52.3 at Winona and milepost 57.9 at Endicott; (4) the Endicott-Colfax line, between milepost 57.9 at Endicott and milepost 77.7 at Colfax; (5) the Colfax-Moscow line (a) between milepost 0.0 at Colfax and milepost 18.7 at Pullman, and (b) between milepost 75.9 at Pullman and milepost 84.05 at the Washington-Idaho State line; (6) the WIM line, between milepost 0.0 at Palouse and milepost 3.85 at the Washington-Idaho State line; and (7) the P&L line, between milepost 1.0 at Marshall and milepost 75.9 at Pullman.

At the time of filing of the verified notice, WSDOT and PRCC were in the process of finalizing a purchase and sale agreement whereby: (1) WSDOT will acquire PRCC's right, title and interest in certain tracks, track materials and the underlying rights-of-way of seven rail lines; and (2) PRCC will retain a permanent, exclusive rail freight easement to provide rail freight service over the lines. WSDOT states that it will not be providing rail freight service over the lines.

The transaction was expected to be consummated on or shortly after November 5, 2004.

If the notice contains false or misleading information, the exemption is void ab initio.¹ Petitions to reopen the proceeding to revoke the exemption under 49 U.S.C. 10502(d) may be filed at any time. The filing of a petition to revoke will not automatically stay the transaction.

¹ WSDOT states that it will be filing a motion to dismiss the notice of exemption in this proceeding. When the motion is filed, it will be addressed in a subsequent Board decision.

An original and 10 copies of all pleadings, referring to STB Finance Docket No. 34609, must be filed with the Surface Transportation Board, 1925 K Street, NW., Washington, DC 20423-0001. In addition, a copy of each pleading must be served on Jeanne A. Cushman, Assistant Attorney General, 905 Plum Street SE., Building 3, P.O. Box 40113, Olympia, WA 98504.

Board decisions and notices are available on our Web site at http://www.stb.dot.gov.

Decided: December 3, 2004.
By the Board, David M. Konschnik, Director, Office of Proceedings.
Vernon A. Williams,
Secretary.

[FR Doc. 04-27038 Filed 12-8-04; 8:45 am]

BILLING CODE 4915-01-P